SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: December 1-31, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and (f) for the time period specified above.

Approvals By Rule—Issued Under 18 CFR 806.22(e)

1. TE Connectivity Corporation; Pad ID: Lickdale Facility; ABR-202412004; Union Township, Lebanon County, Pa.; Consumptive Use of Up to 0.0800 mgd; Approval Date: December 30, 2024.

2. LSC Communications US, LLC; Pad ID: Lancaster East Plant; ABR-202412005; City Of Lancaster, Lancaster County, Pa.; Consumptive Use of Up to 0.1500 mgd; Approval Date: December 30, 2024.

Approvals By Rule—Issued Under 18 CFR 806.22(f)

1. EQT ARO LLC; Pad ID: COP Tract 027B Pad B; ABR-202412001; McHenry Township, Lycoming County, Pa.; Consumptive Use of Up to 5.0000 mgd; Approval Date: December 4, 2024.

2. RENEWAL—Chesapeake Appalachia, L.L.C.; Pad ID: Bacorn; ABR-201408003.R2; Overton Township, Bradford County, Pa.; Consumptive Use of Up to 7.5000 mgd; Approval Date: December 4, 2024.

3. RENEWAL—Coterra Energy Inc.; Pad ID: Elk Lake School District P1; ABR-201908006.R1; Dimock Township, Susquehanna County, Pa.; Consumptive Use of Up to 5.0000 mgd; Approval Date: December 4, 2024.

4. RENEWAL—PPG Operations LLC; Pad ID: Whitetail Gun & Rod Club #1; ABR-20090418.R3; Goshen Township, Clearfield County, Pa.; Consumptive Use of Up to 0.9000 mgd; Approval Date: December 4, 2024.

5. Township, Tioga County, Pa.; Consumptive Use of Up to 6.0000 mgd; Approval Date: December 4, 2024.

6. Gamble Township, Lycoming County, Pa.; Consumptive Use of Up to 4.0000 mgd; Approval Date: December 4, 2024.

7. RENEWAL—Coterra Energy Inc.; Pad ID: Teel P5; ABR-20090542.R3; Springville Township, Susquehanna County, Pa.; Consumptive Use of Up to 5.0000 mgd; Approval Date: December 13, 2024.

8. ABR-20090606.R3; Mifflin Township, Lycoming County, Pa.; Consumptive Use of Up to 4.0000 mgd; Approval Date: December 13, 2024.

9. RENEWAL—Repsol Oil & Gas USA, LLC; Pad ID: KLEIN (01 014) R; ABR-20090810.R3; Armenia Township, Bradford County, Pa.; Consumptive Use of Up to 6.0000 mgd; Approval Date: December 13, 2024.

10. RENEWAL—Seneca Resources Company, LLC; Pad ID: B09-I; ABR-201912001.R1; Shippen Township, Cameron County, Pa.; Consumptive Use of Up to 4.0000 mgd; Approval Date: December 13, 2024.

11. RENEWAL—EXCO Resources (PA), LLC; Pad ID: Barto Unit #1H, #2H; ABR-20090514.R3; Penn Township, Lycoming County, Pa.; Consumptive Use of Up to 8.0000 mgd; Approval Date: December 23, 2024.

12. RENEWAL—EXCO Resources (PA), LLC; Pad ID: Litke (14H, 15H, 16H); ABR-20090431.R3; Burnside Township, Centre County, Pa.; Consumptive Use of Up to 5.0000 mgd; Approval Date: December 23, 2024.

13. RENEWAL—EXCO Resources (PA), LLC; Pad ID: Litke (7H & 8H); ABR-20090426.R3; Burnside Township, Centre County, Pa.; Consumptive Use of Up to 4.0000 mgd; Approval Date: December 23, 2024.

14. RENEWAL—EXCO Resources (PA), LLC; Pad ID: Litke 1H, 2H; ABR-20090425.R3; Burnside Township, Centre County, Pa.; Consumptive Use of Up to 4.0000 mgd; Approval Date: December 23, 2024.

15. RENEWAL—EXCO Resources (PA), LLC; Pad ID: Zinck Unit # 1 Pad; ABR-201908014.R1; Watson Township, Lycoming County, Pa.; Consumptive Use of Up to 5.0000 mgd; Approval Date: December 23, 2024.

16. RENEWAL—Range Resources—Appalachia, LLC; Pad ID: Roup 1H—2H; ABR-201407018.R2; Mifflin Township, Lycoming County, Pa.; Consumptive Use of Up to 4.0000 mgd; Approval Date: December 23, 2024.

17. RENEWAL—Chesapeake Appalachia, L.L.C.; Pad ID: CSI; ABR-20091112.R3; Burlington Township, Bradford County, Pa.; Consumptive Use of Up to 7.5000 mgd; Approval Date: December 24, 2024.

18. RENEWAL—Chesapeake Appalachia, L.L.C.; Pad ID: Doss; ABR-20091109.R3; Albany Township, Bradford County, Pa.; Consumptive Use of Up to 7.5000 mgd; Approval Date: December 24, 2024.

Authority: Public Law 91-575, 84 Stat. 1509 et seq., 18 CFR parts 806 and 808.

Dated: January 14, 2025.
Jason E. Oyler,
General Counsel and Secretary to the Commission.

[FR Doc. 2025-01262 Filed 1-17-25; 8:45 am]

BILLING CODE 7040-01-P